DEPARTMENT OF LABOR

Bureau of Labor Statistics

Labor Research Advisory Council; Notice of Meetings and Agenda

The spring meetings of committees of the Labor Research Advisory Council will be held on June 7, 8, and 9, 2004. All of the meetings will be held in the Conference Center of the Postal Square Building (PSB), 2 Massachusetts Avenue, NE., Washington, DC.

The Labor Research Advisory Council and its committees advise the Bureau of Labor Statistics with respect to technical matters associated with the Bureau's programs. Membership consists of union research directors and staff members. The schedule and agenda of the meetings are as follows:

Monday, June 7, 2004

9:30 a.m.—Committee on Productivity, Technology and Growth—Meeting Room 9

1. The role of outsourcing in the productivity measures

2. Results of the 2002-2012 projections

3. Topics for the next meeting

Committee on Foreign Labor Statistics

1. Cooperative work with the International Labor Organization (ILO) on comparisons of hourly compensation costs

2. Topics for the next meeting

1:30 p.m.—Committee on Occupational Safety and Health Statistics—Meeting Room 9

1. 2002 Survey of Occupational Injuries and Illnesses Results

2. New Data on Time of Event and Time Shift Started

3. Items to add to the Annual Survey of Occupational Injuries and Illnesses

4. Denominators for computing safety and health indicators

5. Special surveys status update

6. Census of Fatal Occupational Injuries (CFOI) Chartbook

7. Budget Update

8. Other Business

9. Topics for next meeting

Tuesday, June 8, 2004

9:30 a.m.—Committee on Employment and Unemployment Statistics—Meeting Room 9

1. Brief updates on release plans for: Job Openings and Labor Turnover Survey (JOLTS) Business Employment Dynamics data

2. Report on efforts to collect data on the association between extended mass layoffs and outsourcing

3. Highlights of 2002-2012 employment projections

4. Current Employment Statistics plans for producing data on all employee hours and earnings and on total wages

5. Topics for next meeting

1:30 p.m.—Committee on Compensation and Working Conditions—Meeting Room 9

1. Demonstration and discussion of the National Compensation Survey's (NCS) Internet Collection Vehicle

2. New Employee Benefit Data from NCS

a. Review of recently released information and plans for additional outputs

b. Discussion of data collection issues and their impact on selected estimates

3. Accessing BLS's files of collective bargaining agreements on-line

4. Other topics and new business

5. Topics for next meeting

Wednesday, June 9, 2004

9:30 a.m.—Committee on Prices and Living Conditions

1. Medical care in the Consumer Price Index

2. Topics for next meeting

The meetings are open to the public. Persons planning to attend these meetings as observers may want to contact Wilhelmina Abner on 202-691-5970.

Signed at Washington, DC this 3rd day of May 2004.
Kathleen P. Utgoff,
Commissioner.

[FR Doc. 04-10628 Filed 5-10-04; 8:45 am]

BILLING CODE 4510-24-P